ENVIRONMENTAL PROTECTION AGENCY

[ER-FRL-6616-5]

Environmental Impact Statements; Notice of Availability

Responsible Agency

Office of Federal Activities, General Information (202) 564-7167 or www.epa.gov/oeca/ofa Weekly receipt of Environmental Impact Statements Filed March 12, 2001 Through March 16, 2001 Pursuant to 40 CFR 1506.9.

EIS No. 010082, Final EIS, NPS, AZ, Chiricahua National Monument, General Management Plan, To Protect Certain National Formations, Known as “The Pinnacles,” AZ , Wait Period Ends: April 23, 2001, Contact: Chris Marvel (303) 969-2840.

EIS No. 010083, Final EIS, NPS, AZ, Fort Bowie National Historic Site General Management Plan, Implementation, Cochise County, AZ, Wait Period Ends: April 23, 2001, Contact: Christine Maylath (303) 969-2851.

EIS No. 010084, Draft Supplement, FAA, MA, Logan Airside Improvements Planning Project (EOEA #10458), Construction and Operation of a new Unidirectional Runway 14/32, Centerfield Taxiway and Add'l Taxiway Improvements, New Information, Providing Clarification of the Delay Problems, Boston Logan Int'l Airport, Federal Funding, Airport Layout Plan and NPDES Permit, Boston, MA, Comment Period Ends: May 07, 2001, Contact: John Silva (781) 238-7602.

EIS No. 010085, Final EIS, AFS, MT, Clearwater Ecosystem Management and Timber Sale Project, Timber Harvesting, Burning, Weed Spraying and Road Management, Lola National Forest, Seeley Lake Ranger District, Missoula County, MT, Wait Period Ends: April 23, 2001, Contact: Sharon Klinkhammer (406) 677-3925.

EIS No. 010086, Final EIS, FHW, NC, US 17 New Bern Bypass Construction, Jones-Craven County Line to NC-1438 near Vanceboro, Funding, Section 404 and U.S. Coast Guard Bridge Permit, Craven County, NC, Wait Period Ends: April 23, 2001, Contact: Nicholas Graf (919) 856-4346.

EIS No. 010087, Final EIS, NPS, UT, Zion National Park, General Management Plan, Implementation, Washington, Iron and Kane Counties, UT, Wait Period Ends: April 23, 2001, Contact: Darla Sidles (435) 772-0211.

EIS No. 010088, Draft EIS, FHW, NB, Lincoln South and East Beltways Project, To Complete a Circumferential Transportation System linking I-80 on the north and U.S. 77 on the west, Funding, COE 404 Permit, Lancaster County, NB, Comment Period Ends: May 07, 2001, Contact: Edward Kosola (402) 437-5973.

EIS No. 010089, Draft Supplement, FAA, IN, Indianapolis International Airport Master Plan Development, Updated Information to Construct a Midfield Terminal, Midfield Interchange, and Associated Developments, Airport Layout Plan Approval, Funding and Section 404 Permit, Marion County, IN, Comment Period Ends: May 07, 2001, Contact: Prescott C. Snyder (847) 294-7538.

EIS No. 010090, Draft EIS, DOE, AZ, Sundance Energy Project, Interconnecting a 600-megawatt Natural Gas-Fired, Simple Cycle Peaking Power Plant with Western's Electric Transmission System, Construction and Operation on Private Lands, Pinal County, AZ, Comment Period Ends: May 07, 2001, Contact: John Holt (602) 352-2592.

EIS No. 010091, Draft EIS, FTA, CT, New Britain-Hartford Busway Project, Proposal to Build an Exclusive Bus Rapid Transit (BRT) Facility, Located in the Towns/Cities of New Britain, Newington, West Hartford and Hartford CT, Comment Period Ends: May 18, 2001, Contact: Richard H. Doyle (617) 494-2055.

EIS No. 010092, Draft EIS, AFS, ID, Clean Slate Ecosystem Management Project, Aquatic and Terrestrial Restoration, Nez Perce National Forest, Salmon River Ranger District, Idaho County ID, Comment Period Ends: May 07, 2001, Contact: Bill Shields (208) 839-2211.

EIS No. 010093, Final EIS, UAF, TX, Brooks City Base Project, To Improve Mission Effectiveness and Reduce Cost of Quality Installation Support, Implementation, Brooks Air Force Base, Bexar County, TX, Wait Period Ends: April 23, 2001, Contact: Roberta Preston (703) 695-4512.

Amended Notices

EIS No. 010023, Draft Supplement, NOA, AK, Groundfish Fishery Management Plan, Implementation, Bering Sea and Aleutian Islands, AK, Comment Period Ends: June 26, 2001, Contact: James W. Balsiger (907) 586-7221. Revision of FR notice published on 02/02/2001: CEQ Comment Date has been extended from 04/26/2001 to 06/25/2001.

EIS No. 000463, Draft Supplement, FHW, IL, FAP Route 340 (I-355 South Extension), Interstate Route 55 to Interstate Route 80, Additional Information for the Tollroad/Freeway Alternative, Funding, US Coast Guard Permit and COE Section 404 Permit, Cook, DuPage and Will Counties, IL, Comment Period Ends: April 30, 2001, Contact: Jon-Paul Kohler (217) 492-4988.

Published FR—12-29-00—Review Period Reestablished.

Dated: March 20, 2001.
Joseph C. Montgomery,
Director, NEPA Compliance Division, Office of Federal Activities.

[FR Doc. 01-7321 Filed 3-22-01; 8:45 am]

BILLING CODE 6560-50-U